ENVIRONMENTAL PROTECTION AGENCY

[FRL-7926-7]

Proposed Reissuance of General NPDES Permit for Offshore Oil and Gas Exploration Facilities on the Outer Continental Shelf and Contiguous State Waters (NPDES Permit Number AKG280000)

AGENCY: Environmental Protection Agency (EPA).

ACTION: Notice of extension of the public comment period for the proposed reissuance of a general NPDES permit.

SUMMARY: The Director, Office of Water, EPA Region 10, proposes to extend the area of coverage of this general permit (AKG280000) to include the northern portion of the Hope Basin and other Outer Continental Shelf (OCS) areas along the northeast boundary that are within the MMS current 5-year oil and gas leasing program.

DATES: Interested persons may submit comments on the proposed reissuance of the general permit to EPA, Region 10 at the addresses below. Comments must be postmarked by July 25, 2005.

ADDRESSES: Comments on the proposed reissuance of the general permit must be sent to the attention of the Director, Office of Water, 1200 Sixth Avenue, M/S OWW-130, Seattle, Washington 98101. Comments may also be submitted electronically to koch.kristine@epa.gov.

FOR FURTHER INFORMATION CONTACT: Copies of the proposed general permit and fact sheet are available upon request. Requests may be made to Audrey Washington at (206) 553-0523 or to Kristine Koch at (206) 553-6705. Requests may also be electronically mailed to: koch.kristine@epa.gov.

The proposed general permit and fact sheet may also be found on the EPA Region 10 Web site at http://www.epa.gov/r10earth.htm, click on Water Quality, then click on NPDES permits under Programs, and then click on draft permits under EPA Region 10 Information.

SUPPLEMENTARY INFORMATION:

Executive Order 12866

The Office of Management and Budget exempted this action from the review requirements of Executive Order 12866 pursuant to section 6 of that order.

Regulatory Flexibility Act (RFA)

Under the RFA, 5 U.S.C. 601 et seq., a federal agency must prepare an initial regulatory flexibility analysis “for any Administrative Procedure Act (APA)), or any other law, to publish general notice of proposed rulemaking.” The RFA exempts from this requirement any rule that the issuing agency certifies “will not, if promulgated, have a significant economic impact on a substantial number of small entities.” EPA has concluded that NPDES general permits are permits under the APA and thus not subject to the APA rulemaking requirements or the RFA.

Dated: June 15, 2005.
Michael F. Gearheard,
Director, Office of Water, Region 10.

[FR Doc. 05-12451 Filed 6-22-05; 8:45 am]

BILLING CODE 6560-50-P